DEPARTMENT OF JUSTICE

[OMB Number 1110-0051]

Agency Information Collection Activities; Proposed eCollection eComments Requested; Revision of a Previously Approved Collection; Final Disposition Report (R-84), With Supplemental Questions R-84(a), R-84(b), R-84(c), R-84(d), R-84(e), R-84(f), R-84(g), R-84(h), R-84(i), and R-84(j)

AGENCY: Federal Bureau of Investigation, Department of Justice.

ACTION: 60-Day notice.

SUMMARY: The Federal Bureau of Investigation, Criminal Justice Information Service Division, Department of Justice (DOJ), will be submitting the following information collection request to the Office of Management and Budget (OMB) for review and approval in accordance with the Paperwork Reduction Act of 1995.

DATES: Comments are encouraged and will be accepted for 60 days until March 25, 2024.

FOR FURTHER INFORMATION CONTACT: If you have additional comments especially on the estimated public burden or associated response time, suggestions, or need a copy of the proposed information collection instrument with instructions or additional information, please contact: Brian A. Cain, Management and Program Analyst, FBI, CJIS, Criminal History Information and Policy Unit, BTC-3, 1000 Custer Hollow Road, Clarksburg, WV 26306; phone: 304-625-5590 or email fbi-iii@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Title 28, U.S.C., section 534, allows the FBI to acquire, collect, classify, and preserve identification, criminal identification, crime, and other records. The FBI permits such exchange of records and information with, and for the official use of, authorized officials of the Federal Government, including the United States Sentencing Commission; the States and cities; and penal and other institutions. It is essential the Final Disposition Report (R-84) and supplemental(s) be utilized in order for the FBI CJIS Division, to assure identity history information is collected, stored, and disseminated in a manner to ensure accuracy, completeness, currency, integrity, and security of such information in an effort to protect individual privacy and provide maximum service to all law enforcement and governmental agencies. All of which is imposed on the FBI, CJIS Division, by 28 CFR 20.1.

Overview of This Information Collection

1. Type of Information Collection: Revision of a previously approved collection.

2. The Title of the Form/Collection: Final Disposition Report.

3. The agency form number, if any, and the applicable component of the Department sponsoring the collection: (R-84), with supplemental questions R-84(a), R-84(b), R-84(c), R-84(d), R-84(e), R-84(f), R-84(g), R-84(h), R-84(i), and R-84(j); CJIS, FBI, DOJ.

4. Affected public who will be asked or required to respond, as well as the obligation to respond: Primary: City, county, state, federal and tribal law enforcement agencies. This collection is needed to report completion of an arrest event. Acceptable data is stored as part of the Next Generation Identification (NGI) system of the FBI. The obligation to respond is mandatory (Title 28, U.S.C., section 534).

5. An estimate of the total number of respondents and the amount of time estimated for an average respondent to respond: The total number of respondents is 542,460 (R-84). The estimated time per response is five minutes.

6. An estimate of the total annual burden (in hours) associated with the collection: The total annual burden hours for this collection is 45,205 hours.

7. An estimate of the total annual cost burden associated with the collection, if applicable: $0.

Total Burden Hours
Activity | Number of respondents | Frequency | Total annual responses | Time per response | Total annual burden (hours)
Ex: Survey (individuals or households) | 542,460 | 1/annually | 542,460 | 5 min | 45,205
Unduplicated Totals | 542,460 | 1/annually | 542,460 |  | 45,205

If additional information is required contact: Darwin Arceo, Department Clearance Officer, United States Department of Justice, Justice Management Division, Policy and Planning Staff, Two Constitution Square, 145 N Street NE, 4W-218, Washington, DC.

Dated: January 19, 2024.
Darwin Arceo,
Department Clearance Officer for PRA, U.S. Department of Justice.

[FR Doc. 2024-01336 Filed 1-23-24; 8:45 am]

BILLING CODE 4410-02-P